NUCLEAR REGULATORY COMMISSION

[Docket No. 50-261]

Carolina Power & Light Company; H. B. Robinson Steam Electric Plant, Unit No. 2; Exemption

1.0 Background

Carolina Power & Light Company (CP&L) is the holder of Facility Operating License No. DPR-23, which authorizes operation of the H. B. Robinson Steam Electric Plant, Unit No. 2 (HBRSEP2). The license provides, among other things, that the facility is subject to all rules, regulations, and orders of the U.S. Nuclear Regulatory Commission (NRC, the Commission) now or hereafter in effect.

The facility consists of a pressurized-water reactor located in Darlington County, South Carolina.

2.0 Request/Action

Pursuant to 10 CFR 55.59(c), a facility's licensed operator requalification program must be conducted for a continuous period not to exceed 2 years (24 months) and upon conclusion must be promptly followed, pursuant to a continuous schedule, by successive requalification programs. Each 2-year requalification program must include a comprehensive biennial written examination and annual operating tests.

By letter dated October 11, 2002, CP&L requested a one-time exemption from the schedular requirements of 10 CFR 55.59(c). Specifically, for HBRSEP2, CP&L has requested a one-time extension from December 31, 2002, to March 31, 2003, for completing the licensed operator requalification annual operating test and comprehensive biennial written examination. This requested exemption would allow an extension of 3 months beyond the schedule for completion of the operating test and written examination as required by 10 CFR 55.59(c). CP&L's letter constitutes a request for exemption under 10 CFR 55.11, which states: “The Commission may, upon application by an interested person, or upon its own initiative, grant such exemptions from the requirements of the regulations in this part as it determines are authorized by law and will not endanger life or property and are otherwise in the public interest.” The exemption is being requested for HBRSEP2 due to an unusually high workload associated with a plant refueling outage (RFO21) and a power uprate project, which occurred just prior to the originally scheduled examinations. Due to the refueling outage and power uprate activities, which included modifying the plant-specific simulator and extensive training of personnel on new and modified procedures, development and administration of the written examination and operating test within the required schedule is viewed as a schedule and workload hardship by the licensee.

3.0 Discussion

Pursuant to 10 CFR 55.11, the Commission may, upon application by an interested person, or upon its own initiative, grant such exemptions from the requirements of the regulations in this part as it determines are authorized by law and will not endanger life or property and are otherwise in the public interest.

The Commission has determined that, pursuant to 10 CFR 55.11, granting an exemption to the facility licensee from the schedular requirements in 10 CFR 55.59(c) by allowing HBRSEP2 a one-time extension in the allowed time for completing the licensed operator requalification annual operating test and comprehensive biennial written examination is authorized by law and will not endanger life or property and is otherwise in the public interest. Although the schedular requirements of 10 CFR 55.59(c) at HBRSEP2 will be exceeded, operator performance continues to be satisfactory, as demonstrated both in the plant and during other aspects of operator requalification training. Granting this exemption will allow HBRSEP2 to continue with safe plant operations during the refueling outage, which includes a power uprate project, without undue hardship to plant personnel and HBRSEP2 licensed operators.

4.0 Conclusion

Accordingly, the Commission hereby grants the facility licensee an exemption on a one-time basis from the schedular requirements of 10 CFR 55.59(c) to allow the current HBRSEP2 requalification program to be extended beyond the 24 months, from December 31, 2002, to March 31, 2003. The NRC understands that, following the completion of the operating test and written examination, the next 24-month licensed operator requalification program will begin on April 1, 2003, and continue for a 24-month period.

Pursuant to 10 CFR 51.32, the Commission has determined that the granting of this exemption will not have a significant effect on the quality of the human environment (67 FR 72983).

This exemption is effective upon issuance and expires on March 31, 2003.

Dated at Rockville, Maryland, this 10th day of December, 2002.
For the Nuclear Regulatory Commission.
Bruce A. Boger,
Director, Division of Inspection Program Management, Office of Nuclear Reactor Regulation.

[FR Doc. 02-31608 Filed 12-13-02; 8:45 am]

BILLING CODE 7590-01-P